DEPARTMENT OF COMMERCE

International Trade Administration

[A-570-893]

Certain Frozen Warmwater Shrimp from the People's Republic of China: Partial Rescission of Antidumping Duty Administrative Review

AGENCY: Import Administration, International Trade Administration, Department of Commerce.

DATES: Effective Date: July 20, 2010.

FOR FURTHER INFORMATION CONTACT: Robert Palmer or Kabir Archuletta, AD/CVD Operations, Office 9, Import Administration, International Trade Administration, U.S. Department of Commerce, 14th Street and Constitution Avenue, NW, Washington DC 20230; (202) 482-9068 or (202) 482-2593, respectively.

SUPPLEMENTARY INFORMATION:

Background

On April 9, 2010, the Department of Commerce (“Department”) published a notice of initiation of an administrative review of the antidumping duty order on certain frozen warmwater shrimp from the People's Republic of China (“PRC”) covering the period February 1, 2009 through January 31, 2010. See Notice of Initiation of Administrative Reviews and Requests for Revocation in Part of the Antidumping Duty Orders on Certain Frozen Warmwater Shrimp From the Socialist Republic of Vietnam and the People's Republic of China, 75 FR 18154 (April 9, 2010) (“Initiation”).

On July 6, 2010, the Ad Hoc Shrimp Trade Action Committee¹ (“Petitioners”) withdrew their request for an administrative review of Allied Pacific Aquatic Products Zhanjiang Co. Ltd. and Allied Pacific Food (Dalian) Co., Ltd. Petitioners were the only party to request a review of these companies.

¹ Ad Hoc Shrimp Trade Action Committee (“AHSTAC”) is the petitioner in the underlying investigation. The members of AHSTAC are: Nancy Edens; Papa Rod, Inc., Carolina Seafoods; Bosarge Boats, Inc.; Knight's Seafood Inc.; Big Grapes, Inc.; Versaggi Shrimp Co.; and Craig Wallis.

Partial Rescission

Pursuant to 19 CFR 351.213(d)(1), the Secretary will rescind an administrative review, in whole or in part, if a party who requested the review withdraws the request within 90 days of the date of publication of notice of initiation of the requested review. Petitioners' request was submitted within the 90 day period and, thus, is timely. Because Petitioners' withdrawal of requests for review is timely and because no other party requested a review of the aforementioned companies, in accordance with 19 CFR 351.213(d)(1), we are partially rescinding this review with respect to the above listed companies.

Assessment Rates

The Department will instruct U.S. Customs and Border Protection (“CBP”) to assess antidumping duties on all appropriate entries. As the companies for which this review has been rescinded have a separate rate, antidumping duties shall be assessed, at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 14, 2010.
Edward C. Yang,
Acting Deputy Assistant Secretary for Antidumping and Countervailing Duty Operations.

[FR Doc. 2010-17706 Filed 7-19-10; 8:45 am]

BILLING CODE 3510-DS-S